DEPARTMENT OF AGRICULTURE

Animal and Plant Health Inspection Service

9 CFR Part 94

[Docket No. 00-111-1]

Change in Disease Status of Artigas, Uruguay, Because of Rinderpest and Foot-and-Mouth Disease

AGENCY: Animal and Plant Health Inspection Service, USDA.

ACTION: Interim rule and request for comments.

SUMMARY: We are amending the regulations governing the importation of certain animals, meat, and other animal products by removing Artigas, a department in Uruguay, from the list of regions considered to be free of rinderpest and foot-and-mouth disease. We are taking this action because the existence of foot-and-mouth disease has been confirmed there. The effect of this action is to prohibit or restrict the importation of any ruminant or swine and any fresh (chilled or frozen) meat and other products of ruminants or swine into the United States from Artigas.

DATES: This interim rule was effective October 1, 2000. We invite you to comment on this docket. We will consider all comments that we receive by February 12, 2001.

ADDRESSES: Please send four copies of your comment (an original and three copies) to: Docket No. 00-111-1, Regulatory Analysis and Development, PPD, APHIS, Suite 3C03, 4700 River Road, Unit 118, Riverdale, MD 20737-1238. Please state that your comment refers to Docket No. 00-111-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

Furthermore, an evaluation in support of this action is available for review in our reading room and on the Internet at http://www.aphis.usda.gov/vs/reg-request.html, or by contacting the person listed under FOR FURTHER INFORMATION CONTACT.

FOR FURTHER INFORMATION CONTACT: Dr. Glen Garris, Supervisory Staff Officer, Regionalization Evaluation Services Staff, National Center for Import and Export, VS, APHIS, 4700 River Road Unit 38, Riverdale, MD 20737-1231; (301) 734-4356.

SUPPLEMENTARY INFORMATION:

Background

The regulations in 9 CFR part 94 (referred to below as the regulations) govern the importation of specified animals and animal products into the United States in order to prevent the introduction of various animal diseases including rinderpest, foot-and-mouth disease (FMD), African swine fever, hog cholera, and swine vesicular disease. These are dangerous and destructive communicable diseases of ruminants and swine. Section 94.1 of the regulations lists regions of the world that are declared free of rinderpest or free of both rinderpest and FMD. Rinderpest or FMD exists in all other regions of the world not listed. Section 94.11 of the regulations lists regions of the world that have been declared to be free of rinderpest and FMD, but are subject to certain restrictions because of their proximity to or trading relationships with rinderpest- or FMD-affected regions.

Prior to the effective date of this interim rule, Uruguay was among the listed regions in §§ 94.1 and 94.11 considered to be free of rinderpest and FMD. However, on October 23, 2000, a suspected outbreak of FMD was detected in the Uruguayan department of Artigas, a region in northern Uruguay. On October 26, 2000, Uruguay's Ministry of Agriculture, Livestock and Fisheries notified us with clinical confirmation of the FMD diagnosis. On November 20, 2000, Uruguay sent a team of veterinary officials to the United States to provide us with detailed information on the outbreak history, measures taken to eradicate the disease, movement controls, monitoring and surveillance, and other relevant activities. Based on our discussions with Uruguay's team of veterinary officials and our own evaluation) ¹ we have determined that: (1) FMD is not known to exist outside the department of Artigas; (2) Uruguay maintains strict control over the importation and movement of animals and animal products from regions of higher risk and has established barriers to the spread of FMD from the department of Artigas; (3) Uruguay maintains a surveillance system capable of detecting FMD should the disease be introduced into other regions of the country; and (4) Uruguay has the laws, policies, and infrastructure to detect, respond to, and eliminate any occurrence of FMD. Consequently, we have decided to remove the portion of Uruguay encompassing the department of Artigas from the list of regions recognized as free of FMD.

¹ An evaluation has been prepared for this action and is available from the sources listed under ADDRESSES.

Therefore, to protect the livestock of the United States from FMD, we are amending the regulations in § 94.1 by removing the department of Artigas from the list of regions considered to be free of rinderpest and FMD. We are also removing Artigas from the list of regions in § 94.11 that are considered to be free of these diseases, but are subject to certain restrictions because of their proximity to or trading relationships with rinderpest- or FMD-affected regions. Other regions of Uruguay will remain on the list of regions considered to be free of rinderpest and FMD. As a result of this action, the importation into the United States of any ruminant or swine and any fresh (chilled or frozen) meat and other products of ruminants or swine that left Artigas on or after October 1, 2000, is prohibited or restricted. Because the disease may have been present in Artigas for some time prior to its detection on October 23, 2000, we are making these amendments effective on October 1, 2000. The date of October 1, 2000, takes into account the approximate incubation period for FMD of 14 days, and includes an additional margin of safety based on uncertainty as to how long the affected animals experienced clinical signs of the disease prior to discovery.

Although we are removing the department of Artigas from the list of regions considered to be free of rinderpest and FMD, we recognize that Uruguay's Ministry of Agriculture, Livestock and Fisheries responded immediately to the detection of the disease by imposing restrictions on the movement of ruminants, swine, and ruminant and swine products into and from the affected area and initiating measures to eradicate the disease. At the time of publication of this interim rule, it appears that the outbreak is well controlled. Because of the efforts of the Ministry of Agriculture, Livestock and Fisheries to ensure that FMD does not spread beyond the department of Artigas, we intend to reassess the situation in accordance with the standards of the Office International des Epizooties. Additionally, as part of our reassessment process, over the next 12 months we will conduct periodic inspections of Uruguayan slaughtering establishments and their operations and records, as well as review relevant documentation maintained by the Ministry of Agriculture, Livestock and Fisheries. We will also consider all comments received on this interim rule. This reassessment will determine whether it is necessary to continue to prohibit or restrict the importation of ruminants or swine and any fresh (chilled or frozen) meat and other products of ruminants or swine from Artigas, or whether we can restore the department of Artigas to the list of regions considered free of rinderpest and FMD.

Emergency Action

This rulemaking is necessary on an emergency basis to prevent the introduction of FMD into the United States. Under these circumstances, the Administrator has determined that prior notice and opportunity for public comment are contrary to the public interest and that there is good cause under 5 U.S.C. 553 for making this rule effective less than 30 days after publication in the Federal Register.

We will consider comments that are received within 60 days of publication of this rule in the Federal Register. After the comment period closes, we will publish another document in the Federal Register. The document will include a discussion of any comments we receive and any amendments we are making to the rule as a result of the comments.

Executive Order 12866 and Regulatory Flexibility Act

This rule has been reviewed under Executive Order 12866. For this action, the Office of Management and Budget has waived its review process required by Executive Order 12866.

This interim rule amends the regulations by removing the Uruguayan department of Artigas from the list of regions considered free of rinderpest and FMD. We are taking this action because Uruguay's Ministry of Agriculture has reported cases of FMD in that region. This action prohibits or restricts the importation into the United States of any ruminant or swine and any fresh (chilled or frozen) meat and other products of ruminants or swine that left the department of Artigas on or after October 1, 2000. This action is necessary to protect the livestock of the United States from FMD.

This emergency situation makes timely compliance with section 604 of the Regulatory Flexibility Act (5 U.S.C. 601 et seq.) impracticable. We are currently assessing the potential economic effects of this action on small entities. Based on that assessment, we will either certify that the rule will not have a significant economic impact on a substantial number of small entities or publish a final regulatory flexibility analysis.

Executive Order 12988

This rule has been reviewed under Executive Order 12988, Civil Justice Reform. This rule: (1) Preempts all State and local laws and regulations that are inconsistent with this rule; (2) has retroactive effect to October 1, 2000; and (3) does not require administrative proceedings before parties may file suit in court challenging this rule.

Paperwork Reduction Act

This rule contains no new information collection or recordkeeping requirements under the Paperwork Reduction Act of 1995 (44 U.S.C. 3501 et seq.).

List of Subjects in 9 CFR Part 94

Animal diseases, Imports, Livestock, Meat and meat products, Milk, Poultry and poultry products, Reporting and recordkeeping requirements.

Accordingly, we are amending 9 CFR part 94 as follows:

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

1. The authority citation for part 94 continues to read as follows:

Authority: Title IV, Pub. L. 106-224, 114 Stat. 438, 7 U.S.C. 7701-7772; 7 U.S.C. 450; 19 U.S.C. 1306; 21 U.S.C. 111, 114a, 134a, 134b, 134c, 134f, 136, and 136a; 31 U.S.C. 9701; 42 U.S.C. 4331 and 4332; 7 CFR 2.22, 2.80, and 371.4.

§ 94.1 [Amended]

2. In § 94.1, paragraph (a)(2) is amended by adding the words “except the department of Artigas” immediately after the word “Uruguay”.

§ 94.11 [Amended]

3. In § 94.11, paragraph (a), the first sentence is amended by adding the words “except the department of Artigas” immediately after the word “Uruguay”.

Done in Washington, DC, this 11th day of December 2000.
Bobby R. Acord,
Acting Administrator, Animal and Plant Health Inspection Service.

[FR Doc. 00-31868 Filed 12-12-00; 8:45 am]

BILLING CODE 3410-34-P